DEPARTMENT OF LABOR

Occupational Safety and Health Administration

[Docket No. OSHA-2018-0012]

Advisory Committee on Construction Safety and Health

AGENCY: Occupational Safety and Health Administration (OSHA), Labor.

ACTION: Request for nominations for membership on ACCSH.

SUMMARY: The Secretary of Labor requests nominations for membership on ACCSH.

DATES: Nominations for ACCSH membership: Submit (postmark, send, transmit) nominations for ACCSH membership by November 16, 2018.

ADDRESSES: You may submit nominations and supporting materials by one of the following methods:

Electronically: You may submit nominations, including attachments, electronically at: http://www.regulations.gov, which is the Federal eRulemaking Portal. Follow the on-line instructions for submissions.

Facsimile (Fax): If your nomination and supporting materials, including attachments, do not exceed 10 pages, you may fax them to the OSHA Docket Office at (202) 693-1648.

Regular mail, express mail, hand delivery, or messenger (courier) service: Submit materials to the OSHA Docket Office, Docket No. OSHA-2017-0007, Room N-3653, U.S. Department of Labor, 200 Constitution Avenue NW, Washington, DC 20210; telephone: (202) 693-2350 (TTY (877) 889-5627). OSHA's Docket Office accepts deliveries (hand deliveries, express mail, and messenger service) during normal business hours, 10:00 a.m.-3:00 p.m., ET.

Instructions: All nominations and supporting materials must include the agency name and docket number for this Federal Register document (Docket No. OSHA-2018-0012). Because of security-related procedures, submitting nominations by regular mail may result in a significant delay in their receipt. Please contact the OSHA Docket Office for information about security procedures for submitting nominations by hand delivery, express delivery, and messenger or courier service.

OSHA will post submissions in response to this Federal Register document, including personal information provided, without change at http://www.regulations.gov. Therefore, OSHA cautions interested parties about submitting personal information such as Social Security Numbers and birthdates.

Access to docket: The http://www.regulations.gov index lists all submissions provided in response to this Federal Register document; however, some information (e.g., copyrighted material) is not publicly available to read or download from that web page. All submissions, including materials not available on-line, are available for inspection at the OSHA Docket Office. For information about accessing materials in Docket No. OSHA-2018-0012, including materials not available on-line, contact the OSHA Docket Office.

FOR FURTHER INFORMATION CONTACT: For press inquiries: Mr. Frank Meilinger, Director, OSHA Office of Communications; telephone: (202) 693-1999; email: meilinger.francis2@dol.gov.

For general information about ACCSH and ACCSH membership: Mr. Damon Bonneau, OSHA, Directorate of Construction; telephone: (202) 693-2020; email: bonneau.damon@dol.gov.

Copies of this Federal Register document: Electronic copies of this Federal Register notice are available at: http://www.regulations.gov. This document, as well as news releases and other relevant information are also available on the OSHA web page at: http://www.osha.gov.

SUPPLEMENTARY INFORMATION: The Secretary of Labor invites interested persons to submit nominations for membership on ACCSH.

Background: ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the OSH Act and CSA require the Assistant Secretary to consult with ACCSH before the Agency proposes any occupational safety and health standard affecting construction activities (29 CFR 1911.10; 40 U.S.C. 3704).

ACCSH operates in accordance with the CSA, the OSH Act, the Federal Advisory Committee Act (FACA) (5 U.S.C. App. 2), and regulations issued pursuant to those statutes (29 CFR part 1912, 41 CFR part 102-3). ACCSH generally meets two to four times a year.

ACCSH membership: ACCSH consists of 15 members whom the Secretary appoints. ACCSH members generally serve staggered two-year terms, unless they resign, cease to be qualified, become unable to serve, or the Secretary removes them (29 CFR 1912.3(e)). The Secretary may appoint ACCSH members to successive terms. No member of ACCSH, other than members who represent employers or employees, shall have an economic interest in any proposed rule that affects the construction industry (29 CFR 1912.6).

The categories of ACCSH membership, and the number of new members to be appointed to replace members whose terms will expire, are:

• Five members who are qualified by experience and affiliation to present the viewpoint of employers in the construction industry—five employer representatives will be appointed;

• Five members who are similarly qualified to present the viewpoint of employees in the construction industry—five employee representatives will be appointed;

• Two representatives of State safety and health agencies—two representatives from a State safety and health agency will be appointed;

• Two public members, qualified by knowledge and experience to make a useful contribution to the work of ACCSH, such as those who have professional or technical experience and competence with occupational safety and health in the construction industry—two public representatives will be appointed; and

• One representative designated by the Secretary of the Department of Health and Human Services and appointed by the Secretary—no new appointment will be made.

The Department of Labor is committed to equal opportunity in the workplace and seeks broad-based and diverse ACCSH membership. Any interested person or organization may nominate one or more individuals for membership on ACCSH. Interested persons also are invited and encouraged to submit statements in support of nominees.

Submission requirements: Nominations must include the following information:

• Nominee's contact information and current employment or position;

• Nominee's résumé or curriculum vitae, including prior membership on ACCSH and other relevant organizations and associations;

• Category of membership (employer, employee, public, State safety and health agency) that the nominee is qualified to represent;

• A summary of the background, experience, and qualifications that addresses the nominee's suitability for each of the nominated membership categories;

• Articles or other documents the nominee has authored that indicate the nominee's knowledge, experience, and expertise in occupational safety and health, particularly as it pertains to the construction industry; and

• A statement that the nominee is aware of the nomination, is willing to regularly attend and participate in ACCSH meetings, and has no conflicts of interest that would preclude membership on ACCSH.

Member selection: The Secretary will select ACCSH members on the basis of their experience, knowledge, and competence in the field of occupational safety and health, particularly as it pertains to the construction industry. Information received through this nomination process, in addition to other relevant sources of information, will assist the Secretary in appointing members to ACCSH. In selecting ACCSH members, the Secretary will consider individuals nominated in response to this Federal Register document, as well as other qualified individuals.

Authority and Signature

Loren Sweatt, Deputy Assistant Secretary for Occupational Safety and Health, authorized the preparation of this document under the authority granted by 29 U.S.C. 656; 40 U.S.C. 3704; 5 U.S.C. App. 2; 29 CFR parts 1911 and 1912; 41 CFR 102-3; and Secretary of Labor's Order No. 1-2012 (77 FR 3912, Jan. 25, 2012).

Signed at Washington, DC, on September 11, 2018.
Loren Sweatt,
Deputy Assistant Secretary of Labor for Occupational Safety and Health.

[FR Doc. 2018-20117 Filed 9-14-18; 8:45 am]

BILLING CODE 4510-26-P